DEPARTMENT OF HOMELAND SECURITY

Coast Guard

33 CFR Part 117

[Docket No. USCG-2022-0222]

Drawbridge Operation Regulation; Okeechobee Waterway, Stuart, FL

AGENCY: Coast Guard, Department of Homeland Security (DHS).

ACTION: Notice of temporary deviation from regulations; request for comments.

SUMMARY: The Coast Guard is modifying a temporary deviation from the operating schedule that governs the Florida East Coast (FEC) Railroad Bridge, across the Okeechobee Waterway (OWW), mile 7.41, at Stuart, Florida. This modification tests an alternate temporary deviation to determine if the updated mobile application and simplified drawbridge opening requirements are reliable and predictable and will meet the reasonable needs of navigation and competing modes of transportation given the increase in railway activity. The Coast Guard is seeking comments from the public regarding this deviation.

DATES: This deviation is effective from 12:01 a.m. on February 12, 2024, through 11:59 p.m. on August 9, 2024.

Comments and related material must reach the Coast Guard on or before May 6, 2024.

ADDRESSES: You may submit comments identified by docket number USCG-2022-0222 using Federal Decision Making Portal at https://www.regulations.gov.

See the “Public Participation and Request for Comments” portion of the SUPPLEMENTARY INFORMATION section below for instructions on submitting comments.

FOR FURTHER INFORMATION CONTACT: If you have questions on this temporary deviation, call or email Ms. Jennifer Zercher, Bridge Management Specialist, Seventh Coast Guard District; telephone 571-607-5951, email Jennifer.N.Zercher@uscg.mil.

SUPPLEMENTARY INFORMATION:

I. Background, Purpose and Legal Basis

The Florida East Coast (FEC) Railroad Bridge across the Okeechobee Waterway (OWW), mile 7.41, at Stuart, Florida, is a single-leaf bascule bridge with a six-foot vertical clearance at mean high water in the closed position. The normal operating schedule for the bridge is found in 33 CFR 117.317(c).

On August 11, 2023, the Coast Guard published a temporary deviation entitled “Drawbridge Operation Regulation; Okeechobee Waterway, Stuart, FL” in the Federal Register (88 FR 54487). That temporary deviation, effective from 12:01 a.m. on August 15, 2023, through 11:59 p.m. on December 17, 2023, allowed the drawbridge to operate on a more predictable schedule due to the significant increase in railway activity.

On November 7, 2023, the Coast Guard published a notice reopening the comment period until November 30, 2023, because service was delayed on the passenger train (88 FR 76666).

On December 7, 2023, the Coast Guard published a temporary deviation modification which extended the temporary deviation through 12:59 p.m. on February 11, 2024. This action was necessary to allow the Coast Guard sufficient time to review public comments, while providing continuity in the operation of the drawbridge to determine if the temporary deviation will meet the reasonable needs of competing modes of transportation or if an alternate temporary deviation may be needed (88 FR 85111).

The Coast Guard has determined an alternate temporary deviation should be considered based on comments and feedback from marine industries and the bridge owner. Of the 216 comments received, 185 were unrelated to the temporary deviation and were not taken into consideration when developing this alternate temporary deviation. There were 16 comments received that stated the temporary deviation does not provide sufficient time for marine traffic, but no extenuating information was given to support that comment. The remaining comments stated the mobile application was not reliable as it was not accurately displaying the status of the drawbridge. Mariners were unable to plan for transits as the mobile application would show the drawbridge open to navigation, but the bridge was closed to navigation for the passage of rail traffic when mariners arrived at the bridge. It was discovered the mobile application was not updated with the full train schedule for both freight and passenger rail service. We are testing this alternate temporary deviation to determine if the updated mobile application and simplified drawbridge opening requirements are reliable and predictable and will meet the reasonable need of navigation.

Under this temporary deviation modification from 12:01 a.m. on February 12, 2024, through 11:59 p.m. on August 9, 2024, the FEC Railroad Bridge will be maintained in the fully open-to-navigation position, except during periods when it is closed for the passage of train traffic, to conduct inspections, and to perform maintenance and repairs authorized by the Coast Guard. However, the bridge will not be closed for more than 50 consecutive minutes in any given hour during daytime operations (6 a.m. to 8 p.m.) and for more than 7 total hours during daytime operations (6 a.m. to 8 p.m.).

Notwithstanding the above paragraph, the drawbridge will open and remain open to navigation for a fixed 10-minute period at the top of each hour from 6 a.m. to 8 p.m.

From 8:01 p.m. until 5:59 a.m. daily, the drawbridge will remain in the fully open-to-navigation position, except during periods when it is closed for the passage of train traffic, to conduct inspections, and to perform maintenance and repairs authorized by the Coast Guard. The drawbridge will not be closed more than 60 consecutive minutes.

If a train is in the track circuit at the start of a fixed opening period, the opening may be delayed up to, but not more than, five minutes. Once the train has cleared the circuit, the bridge must open immediately for navigation to begin the fixed opening period.

The drawbridge will be tended from 6 a.m. to 8 p.m., daily. The bridge tender will monitor VHF-FM channels 9 and 16 and will provide estimated times of drawbridge openings and closures, or any operational information requested. Operational information will be provided 24 hours a day by telephone at (772) 403-1005.

The drawbridge owner will maintain a mobile application. The drawbridge owner will publish drawbridge opening times, and the drawbridge owner will provide timely updates to schedules, including but not limited to, impacts due to emergency circumstances, inspections, maintenance, and repairs authorized by the Coast Guard.

Signs will be posted and visible to marine traffic, displaying VHF radio contact information, application information, and the telephone number for the bridge tender.

During the temporary deviation, a copy of the drawbridge logbook for the previous week will be provided to the Seventh Coast Guard District Bridge Manager by 4 p.m. each Monday.

In accordance with 33 CFR 117.35(e), the drawbridge must return to its regular operating schedules immediately at the end of the effective period of this temporary deviation. This deviation from the operating regulation is authorized pursuant to 33 CFR 117.35.

II. Public Participation and Request for Comments

We view public participation as essential to determining the needs of the public and will consider all comments and material received during the comment period. Your comment can help shape the outcome of future actions. If you submit a comment, please include the docket number for this test deviation, indicate the specific section of this document to which each comment applies, and provide a reason for each suggestion or recommendation.

Submitting comments. We encourage you to submit comments through the Federal Decision-Making Portal at https://www.regulations.gov. To do so, go to https://www.regulations.gov, type USCG-2022-0222 in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments are posted, or a final rule is published of any posting or updates to the docket.

We review all comments received, but we will only post comments that address the topic of this deviation. We may choose not to post off-topic, inappropriate, or duplicate comments that we receive.

We accept anonymous comments. Comments we post to https://www.regulations.gov will include any personal information you have provided. For more about privacy and submissions in response to this document, see DHS's eRulemaking System of Records notice (85 FR 14226, March 11, 2020).

Dated: January 31, 2024.
Randall D. Overton,
Director, Bridge Administration, Seventh Coast Guard District.

[FR Doc. 2024-02389 Filed 2-5-24; 8:45 am]

BILLING CODE 9110-04-P